DEPARTMENT OF HOMELAND SECURITY

Federal Emergency Management Agency

[Docket ID: FEMA-2024-0020; OMB No. 1660-0039]

Agency Information Collection Activities: Submission for OMB Review, Comment Request; National Fire Academy Long-Term Evaluation Form for Supervisors and National Fire Academy Long-Term Evaluation Form for Students/Trainees

AGENCY: Federal Emergency Management Agency, Department of Homeland Security.

ACTION: 30-Day notice of extension and request for comments.

SUMMARY: The Federal Emergency Management Agency (FEMA) will submit the information collection abstracted below to the Office of Management and Budget for review and clearance in accordance with the requirements of the Paperwork Reduction Act of 1995. FEMA invites the general public to take this opportunity to comment on an extension, without change, of a currently approved information collection. In accordance with the requirements of the Paperwork Reduction Act of 1995, this notice seeks comments concerning the long-term evaluation forms used to evaluate all National Fire Academy training.

DATES: Comments must be submitted on or before December 9, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Dawn Long, Statistician, Federal Emergency Management Agency, United State Fire Administration, National Fire Academy, (301) 447-1488, and dawn.long@fema.dhs.gov.

SUPPLEMENTARY INFORMATION: The National Fire Academy is mandated under the Fire Prevention and Control Act of 1974 (Pub. L. 93-498) to provide training and education to the Nation's fire service and emergency service personnel. The state of-the-art programs offered by the National Fire Academy serve as models of excellence and State and local fire service agencies rely heavily on the curriculum to train their personnel. To maintain the quality of these training programs, it is critical that courses be evaluated after students have had the opportunity to apply the knowledge and skills gained from their training. Information collected from the evaluation forms enables the U.S. Fire Administration and National Fire Academy staff to monitor and recommend changes in course materials, individual subject selection criteria, and to make curriculum-wide reviews and assessments.

This proposed information collection previously published in the Federal Register on July 22, 2024, at 89 FR 59128 with a 60-day public comment period. FEMA received zero public comments. The purpose of this notice is to notify the public that FEMA will submit the information collection abstracted below to the Office of Management and Budget for review and clearance.

Collection of Information

Title: National Fire Academy Long-Term Evaluation Form for Supervisors and National Fire Academy Long-Term Evaluation Form for Students/Trainees.

Type of Information Collection: Extension, without change, of a currently approved information collection.

OMB Number: 1660-0039.

FEMA Forms: FEMA Form FF-USFA-FY-22-118 (formerly 078-0-2), National Fire Academy Long-Term Evaluation Form for Supervisors; FF-USFA-FY-22-119 (formerly 078-0-2A), National Fire Academy Long-Term Evaluation Form for Students/Trainees.

Abstract: The National Fire Academy Long-Term Evaluation Forms will be used to evaluate all National Fire Academy on-campus resident training courses. Course graduates and their supervisors will be asked to evaluate the impact of the training on both individual job performance and the performance of the fire and emergency response department where the student works. The data provided by students and supervisors is used to update existing National Fire Academy course materials and to develop new courses that reflect the emerging issues and needs of the Nation's fire service.

Affected Public: State, Local or Tribal Government.

Estimated Number of Respondents: 3,000.

Estimated Number of Responses: 3,000.

Estimated Total Annual Burden Hours: 405 hours.

Estimated Total Annual Respondent Cost: $21,962.

Estimated Respondents' Operation and Maintenance Costs: $0.

Estimated Respondents' Capital and Start-Up Costs: $0.

Estimated Total Annual Cost to the Federal Government: $64,452.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2024-26063 Filed 11-7-24; 8:45 am]

BILLING CODE 9111-45-P